DEPARTMENT OF THE INTERIOR

Bureau of Land Management

[OR-932-1330-PC-010H:GP1-0086]

Nominations for Emergency Land Purchase

AGENCY: Bureau of Land Management, Oregon.

ACTION: Public notice.

SUMMARY: The fiscal year 2001 appropriation (United States House of Representatives Report 106-914) for the Bureau of Land Management (BLM) contained language in section 349(b) that requires the Bureau, acting on behalf of the Secretary of the Interior, to identify lands or interest in lands which merit emergency purchase in the lower Umpqua River basin from willing sellers, generally in the central coast mountain range.

SUPPLEMENTARY INFORMATION: Nominations are being accepted by the BLM for lands or interests in land that have critical environmental values or the possibility of imminent development which would merit emergency purchase by BLM from willing sellers in the lower Umpqua River basin, generally in the central coast mountain range. These nominations must be received at the BLM Coos Bay District Office, at the address below, no later than the close of business on Friday, March 9, 2001. BLM will evaluate the nominations and identify the lands that meet the criteria by March 31, 2001. This notice does not constitute initiation of scoping for environmental analysis of alternative land ownership patterns; scoping will be announced with a later notice in the Federal Register. Nomination worksheets and a map of the eligible area are available on the Internet at www.or.blm.gov/umpqua or by contacting the following BLM personnel:

Alan Hoffmeister, BLM Coos Bay District Office, 1300 Airport Lane, North Bend, OR 97459, Phone: 541-751-4249

or

E. Lynn Burkett, BLM Roseburg District Office, 777 NW Garden Valley Blvd., Roseburg, OR 97470, Phone: 541-440-4930, Extension 3245

FOR FURTHER INFORMATION CONTACT: Patrick Geehan, Lower Umpqua Land Ownership Adjustment Project Manager, P.O. Box 2965, Portland, Oregon, 97208, phone: 503-952-6445.

Dated: January 30, 2001.
Edward W. Shepard,
Deputy State Director, Division of Resource Planning, Use, and Protection.

[FR Doc. 01-3474 Filed 2-9-01; 8:45 am]

BILLING CODE 4310-33-P